DEPARTMENT OF COMMERCE

National Oceanic and Atmospheric Administration

[I.D. 012800A]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Research Steering and Experimental Fisheries Committee in February, 2000. Recommendations from the Committee will be brought to the full Council for formal consideration and action, if appropriate.

DATES: The meeting will held on Wednesday, February 16, 2000, at 9 a.m.

ADDRESSES: The meeting will be held at the Sheraton Ferncroft Hotel, 50 Ferncroft Road, Danvers, MA 01923; telephone (978) 777-2500.

Council Address: New England Fishery Management Council, 50 Water Street, The Tannery-Mill 2, Newburyport, MA 01950, telephone 978-465-0492.

FOR FURTHER INFORMATION CONTACT: Paul J. Howard, Executive Director, New England Fishery Management Council 978-465-0492.

SUPPLEMENTARY INFORMATION: The Committee will finalize recommendations on regional research priorities and forward them to the NMFS Regional Administrator for consideration. The Committee also will discuss related issues, including a draft Request for Proposals concerning the expenditure of funds appropriated by Congress for the conduct of collaborative research involving the New England groundfish. Other issues to be approved relate to the Committee's role in the review of proposals submitted in response to the RFP. The Committee may also discuss how to disburse funds collected under 2000 Total Allowable Catch research set-aside proposed in Framework 13 to the Sea Scallop Fishery Management Plan.

Although non-emergency issues not contained in this agenda may come before this Council for discussion, these issues may not be the subject of formal Council action during this meeting. Council action will be restricted to those issues specifically listed in this document and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: January 28, 2000.
Bruce C. Morehead,
Acting Director, Office of Sustainable Fisheries, National Marine Fisheries Service.

[FR Doc. 00-2343 Filed 2-2-00; 8:45 am]

BILLING CODE 3510-22-F